DEPARTMENT OF HOMELAND SECURITY

Coast Guard

33 CFR Part 100

[Docket No. USCG-2019-0584]

Special Local Regulation; Clearwater Super Boat National Championship, Gulf of Mexico; Clearwater Beach, FL

AGENCY: Coast Guard, DHS.

ACTION: Notice of enforcement of regulation.

SUMMARY: The Coast Guard will enforce special local regulations for the Clearwater Super Boat National Championship on September 29, 2019, to provide for the safety of life on navigable waterways during this event. Our regulation for Clearwater Super Boat National Championship identifies the regulated area for this event in Clearwater Beach, FL. During the enforcement period, no persons or vessels will be permitted in the Race Area without permission of the Captain of the Port St. Petersburg (COTP), unless they are authorized race participants. If permission is granted by the COTP, all persons and vessels receiving such permission must comply with the instructions of the COTP or a designated representative. Also during the enforcement period all vessels in the Spectator Area are to be anchored or operating at a “no wake speed”.

DATES: The regulations in 33 CFR 100.721 will be enforced from 11:30 a.m. until 4 p.m. on September 29, 2019.

FOR FURTHER INFORMATION CONTACT: If you have questions about this notice of enforcement, call or email Marine Science Technician First Class Michael Shackleford, Sector St. Petersburg Prevention Department, U.S. Coast Guard; telephone (813) 228-2191, email Michael.D.Shackleford@uscg.mil.

SUPPLEMENTARY INFORMATION: The Coast Guard will enforce special local regulations in 33 CFR 100.721 for the Clearwater Super Boat National Championship regulated area from 11:30 a.m. to 4 p.m. on September 29, 2019. This action is being taken to provide for the safety of life on navigable waterways during this event. Our regulation for the Clearwater Super Boat National Championship, § 100.721, specifies the location of the regulated area for the event which encompasses portions of the Gulf of Mexico. During the enforcement period only authorized race participants will be permitted to enter, transit through, anchor in, or remain in the Race Area. If you are an authorized operator of a vessel in the Race Area you must comply with the instructions of the Captain of the Port or a designated representative. On-scene designated representatives will direct spectator vessels to the Spectator Area and are to be anchored or operating at a “no wake speed” during the enforcement period. Persons or vessels wishing to obtain authorization to enter or remain within the regulated areas may contact the COTP by telephone at (727) 824-7506 or a designated representative via VHF radio on channel 16.

In addition to this notice of enforcement in the Federal Register, the Coast Guard plans to provide notification of this enforcement period via Broadcast Notice to Mariners.

Dated: September 16, 2019.
Matthew A. Thompson,
Captain, U.S. Coast Guard, Captain of the Port St. Petersburg.

[FR Doc. 2019-20981 Filed 9-27-19; 11:15 am]

BILLING CODE 9110-04-P